DEPARTMENT OF DEFENSE

Office of the Secretary

Defense Science Board

AGENCY: Department of Defense.

ACTION: Notice of Advisory Committee Meetings.

SUMMARY: The Defense Science Board Task Force on Directed Energy will meet in closed session on September 28, 2006, at the Institute for Defense Analysis, 1801 N. Beauregard Street, Alexandria, VA. The task force will review directed energy weapon systems and technology applications.

The mission of the Defense Science Board is to advise the Secretary of Defense and the Under Secretary of Defense for Acquisition, Technology & Logistics on scientific and technical matters as they affect the perceived needs of the Department of Defense. At these meetings, the Defense Science Board Task Force will: Review all surface, sub-surface, air and space DE programs in The Department and other organizations; examine recent supporting technology advancements and their applications with respect to supporting military DE weapon system developments; as well as make recommendations on potential strategic advantage DE weapons can provide with regards to the delivery of precision effects, decreased collateral damage, limiting unintended effects, and decreasing post combat reconstitution costs and efforts.

In accordance with Section 10(d) of the Federal Advisory Committee Act, Pub L. 92-463, as amended (5 U.S.C. App. II), it has been determined that these Defense Science Board Task Force meetings concern matters listed in 5 U.S.C. 552b(c)(1) and that, accordingly, the meeting will be closed to the public.

FOR FURTHER INFORMATION CONTACT: Major Chad Lominac, USAF, Defense Science Board, 3140 Defense Pentagon, Room 3C553, Washington, DC 20301-3140, via e-mail at charles.lominac@osd.mil or via phone at (703) 571-0081.

Due to scheduling difficulties, there is insufficient time to provide timely notice required by Section 10(a) of the Federal Advisory Committee Act and Subsection 102-3.150(b) of the GSA Final Rule on Federal Advisory Committee Management, 41 CFR Part 102-3.150(b), which further requires publication at least 15 calendar days prior to the meeting.

Dated: September 25, 2006.
C.R. Choate,
Alternate OSD Federal Register Liaison Officer, Department of Defense.

[FR Doc. 06-8363 Filed 9-28-06; 8:45 am]

BILLING CODE 5001-06-M